DEPARTMENT OF HEALTH AND HUMAN SERVICES

Centers for Medicare & Medicaid Services

[Document Identifier: CMS-R-136 and CMS-10198]

Agency Information Collection Activities: Proposed Collection; Comment Request

AGENCY: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection.

Title of Information Collection: Proper Claim Not Filed and Supporting Regulation in 42 CFR 411.32(c).

Use: Section 411.32(c) requires physicians, providers, other suppliers, and beneficiaries, in case where they failed to submit a proper claim with a third party payer to report these situations on the current Medicare forms. The primary payer will notify the physician, provider, other supplier, or beneficiary of the amount normally payable, the amount of the reduction payable because the claim was not filed properly, and the amount the physician, provider, other supplier, or beneficiary is being paid under the “primary plan” due to the reduction. The information is transmitted on an explanation of benefits or remittance advice determination that third party payers provide to all covered individuals and physicians, providers and other suppliers as part of an industry practice. The information contained in this explanation, whether or not it concerns improperly filed claims, is submitted to Medicare as part of the claims process.

Form Number: CMS-R-136 (OMB#: 0938-0564).

Frequency: Reporting—On occasion.

Affected Public: Business or other for-profit Not-for-profit institutions, and Individuals or Households.

Number of Respondents: 1,129,000.

Total Annual Responses: 1,129,000.

Total Annual Hours: 1.

2. Type of Information Collection Request: New Collection.

Title of Information Collection: Creditable Coverage Disclosure to CMS Instructions contained in 42 CFR 423.56.

Use: Section 1860D-13 of the Medicare Modernization Act requires certain entities that provide prescription drug coverage to Medicare Part D eligible individuals to disclose to CMS whether such coverage meets the actuarial requirements specified in the guidelines provided by CMS. The actuarial determination measures whether the expected amount of paid claims under the entity's prescription drug coverage is at least as much as the expected amount of paid claims under the standard Medicare prescription drug benefit. This information will be used for research, program evaluation and to verify whether or not beneficiaries are subject to a late enrollment penalty.

Form Number: CMS-10198 (OMB#: 0938-New).

Frequency: Recordkeeping, Third party disclosure and Reporting—On occasion and Annually.

Affected Public: Business or other for-profit, Not-for-profit institutions and Federal, State, local or tribal government.

Number of Respondents: 446,160.

Total Annual Responses: 466,373.

Total Annual Hours: 37,555.

To obtain copies of the supporting statement and any related forms for the proposed paperwork collections referenced above, access CMS' Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on September 5, 2006. CMS, Office of Strategic Operations and Regulatory Affairs, Division of Regulations Development—B, Attention: William N. Parham, III, Room C4-26-05, 7500 Security Boulevard, Baltimore, Maryland 21244-1850.

Dated: June 28, 2006.
Michelle Shortt,
Director, Regulations Development Group, Office of Strategic Operations and Regulatory Affairs.

[FR Doc. E6-10587 Filed 7-6-06; 8:45 am]

BILLING CODE 4120-01-P